DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2012, there were five applications approved. This notice also includes information on two applications, approved in May 2012, inadvertently left off the May 2012 notice. Additionally, six approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of McAllen, Texas.

Application Number: 11-05-C-00-MFE.

Application Type: Impose and use a PFC.

PFC Level: $4.50.

Total PFC Revenue Approved in This Decision: $19,145,000.

Earliest Charge Effective Date: June 1, 2013.

Estimated Charge Expiration Date: December 1, 2026.

Class of Air Carriers Not Required to Collect PFC's: Air taxi/commercial operators filing FAA Form 1800-31.

Determination: Approved. Based on information submitted in the public agency's application, the FAA has determined that the proposed class accounts for less than 1 percent of the total annual enplanements at McAllen-Miller International Airport.

Brief Description of Projects Approved for Collection and Use:

Terminal building improvements.

Terminal area apron.

Shared use passenger processing system.

PFC application and administration fees.

Brief Description of Disapproved Project:

Sterilizer and steam generator.

Determination: Disapproved. This project does not meet the requirements of § 158.15(b).

Decision Date: May 2, 2012.

For Further Information Contact: Sarah Conner, Texas Airports Development Office, (817) 222-5682.

Public Agency: County of Westchester, White Plains, New York.

Application Number: 12-07-C-00-HPN.

Application Type: Impose and use a PFC.

PFC Level: $4.50.

Total PFC Revenue Approved in This Decision: $3,000,000.

Earliest Charge Effective Date: August 1, 2013.

Estimated Charge Expiration Date: August 1, 2014.

Class of Air Carriers Not Required to Collect PFC's: Nonscheduled/on-demand air carriers filing FAA Form 1800-31.

Determination: Approved. Based on information submitted in the public agency's application, the FAA has determined that the proposed class accounts for less than 1 percent of the total annual enplanements at Westchester County Airport.

Brief Description of Project Approved for Collection and Use:

Replace two existing jet bridges and procure two additional jet bridges.

Decision Date: May 17, 2012.

For Further Information Contact: Andrew Brooks, New York Airports District Office, (516) 227-3816.

Public Agency: Lancaster Airport Authority, Lititz, Pennsylvania.

Application Number: 12-02-C-00-LNS.

Application Type: Impose and use a PFC.

PFC Level: $3.00.

Total PFC Revenue Approved in This Decision: $110,174.

Charge Effective Date: Not applicable.

Charge Expiration Date: Not applicable.

Class of Air Carriers Not Required to Collect PFC's: None.

Brief Description of Projects Approved for Collection and Use:

Rehabilitate southeast general aviation apron, design.

Replace perimeter fence with security fence, design.

Aircraft rescue and firefighting building.

Extend runway—relocate road.

Decision Date: June 6, 2012.

For Further Information Contact: Lori Ledebohm, Harrisburg Airports District Office, (717) 730-2835.

Public Agency: County of Wicomico, Salisbury, Maryland.

Application Number: 12-04-C-00-SBY.

Application Type: Impose and use a PFC.

PFC Level: $4.50.

Total PFC Revenue Approved in This Decision: $937,983.

Earliest Charge Effective Date: March 1, 2013.

Estimated Charge Expiration Date: February 1, 2017.

Class of Air Carriers Not Required to Collect PFC's: Part 135 carriers and foreign carriers.

Determination: Disapproved. The proposed class totally more than 1 percent of the airport's annual enplanements.

Brief Description of Projects Approved for Collection and Use:

Develop PFC application.

Rehabilitate air carrier terminal—phase 1.

Rehabilitate terminal vehicle access loop.

Brief Description of Withdrawn Project:

Air traffic control tower rehabilitation.

Date of Withdrawal: May 22, 2012.

Decision Date: June 11, 2012.

For Further Information Contact: Jeffrey Breeden, Washington Airports District Office, (703) 661-1363.

Public Agency: County of Emmet, Petoskey, Michigan.

Application Number: 12-12-C-00-PLN.

Application Type: Impose and use a PFC.

PFC Level: $4.50.

Total PFC Revenue Approved in This Decision: $481,281.

Earliest Charge Effective Date: October 1, 2014.

Estimated Charge Expiration Date: September 1, 2021.

Class of Air Carriers Not Required to Collect PFC's: None.

Brief Description of Projects Approved for Collection and Use:

Snow removal equipment and aircraft rescue and firefighting facility.

New electrical vault.

Baggage claim vehicle doors.

Decision Date: June 13, 2012.

For Further Information Contact: Alex Erskine, Detroit Airports District Office, (734) 229-2927.

Public Agency: Columbus Consolidated Government, Columbus, Georgia.

Application Number: 12-05-C-00-CSG.

Application Type: Impose and use a PFC.

PFC Level: $4.50.

Total PFC Revenue Approved in This Decision: $601,216.

Earliest Charge Effective Date: August 1, 2012.

Estimated Charge Expiration Date: February 1, 2015.

Class of Air Carriers Not Required to Collect PFC's: Air taxi/commercial operators operating at Columbus Metropolitan Airport (CSG).

Determination: Approved. Based on information submitted in the public agency's application, the FAA has determined that the proposed class accounts for less than 1 percent of the total annual enplanements at CSG.

Brief Description of Projects Approved for Collection and Use:

PFC update.

Airport entrance road improvements.

Terminal building improvements.

Airfield security improvement.

Taxiway C relocation phase II—design and construction.

Airport communications upgrade.

Aircraft rescue and firefighting equipment.

Decision Date: June 20, 2012.

For Further Information Contact: Anna Lynch, Atlanta Airports District Office, (404) 305-7146.

Public Agency: City of Hailey and County of Blaine, Hailey, Idaho.

Application Number: 12-08-C-00-SUN.

Application Type: Impose and use a PFC.

PFC Level: $4.50.

Total PFC Revenue Approved in This Decision: $527,500.

Earliest Charge Effective Date: January 1, 2014.

Estimated Charge Expiration Date: January 1, 2016.

Class of Air Carriers Not Required to Collect PFC's: Air taxi/commercial operators filing FAA Form 1800-31.

Determination: Approved. Based on information submitted in the public agency's application, the FAA has determined that the proposed class accounts for less than 1 percent of the total annual enplanements at Friedman Memorial Airport.

Brief Description of Projects Approved for Collection and Use:

Acquire snow removal equipment.

Security improvements.

PFC administrative costs.

Decision Date: June 25, 2012.

For Further Information Contact: Trang Tran, Seattle Airports District Office, (425) 227-1662.

Amendments to PFC Approvals
Amendment No., city, State | Amendment approved date | Original approved net PFC revenue | Amended approved net PFC revenue | Original estimated charge exp. date | Amended estimated charge exp. date
97-03-C-02-IYK, Inyokern, CA | 05/30/12 | $232,373 | $257,452 | 03/01/03 | 03/01/03
09-10-C-02-FLL, Fort Lauderdale, FL | 05/30/12 | 227,729,300 | 230,829,300 | 04/01/17 | 09/01/17
09-03-C-01-NYL, Yuma, AZ | 06/01/12 | 1,251,361 | 1,371,361 | 07/01/18 | 03/01/19
97-05-C-02-CLE, Cleveland, OH | 06/06/12 | 41,844,570 | 36,187,509 | 11/01/99 | 05/01/00
09-11-C-01-SLC, Salt Lake City, UT | 06/15/12 | 68,334,400 | 75,162,900 | 06/01/11 | 08/01/11
09-04-C-02-ROW, Roswell, NM | 06/26/12 | 627,519 | 1,450,118 | 11/01/13 | 02/01/19

Issued in Washington, DC, on July 18, 2012.
Joe Hebert,
Manager, Financial Analysis and Passenger Facility Charge Branch.

[FR Doc. 2012-18208 Filed 7-26-12; 8:45 am]

BILLING CODE 4910-13-M